DEPARTMENT OF LABOR

Employment and Training Administration

[TA-W-55,898]

Glenshaw Glass Company Glenshaw, PA; Notice of Negative Determination on Reconsideration

On February 1, 2005, the Department issued an Affirmative Determination Regarding Application for Reconsideration for the workers and former workers of the subject firm. The Department's Notice of determination was published in the Federal Register on February 22, 2005 (70 FR 8638).

The Department initially denied Trade Adjustment Assistance (TAA) to former workers of Glenshaw Glass Company, Glenshaw, Pennsylvania because the “contributed importantly” and shift of production group eligibility requirements of Section 222(3) of the Trade Act of 1974, as amended, were not met. The initial investigation revealed that, during the relevant period, the subject company did not import products like or directly competitive with glass containers and that the subject company did not shift production abroad. The survey conducted by the Department of the subject company's major declining customers for the periods 2002, 2003, January through September 2003 and January through September 2004 revealed no direct imports and a negligible amount of indirect imports during the surveyed period.

The Department determined that the predominate cause of workers' separations at the subject company was related to the flood that shut down the subject company's furnaces beginning on September 17, 2004.

In the request for reconsideration, the petitioner inferred that imports contributed to the closure of the subject facility.

During the reconsideration investigation, the Department requested additional information from the subject company, including information which would enable the Department to conduct an expanded customer survey.

A careful review of the new information obtained during the reconsideration investigation revealed that the subject company's production level increased January through September 2004 from January through September 2003 levels, prior to the flood, and that subject company sales to customers increased January through September 2004 from January through September 2003 levels.

Conclusion

After reconsideration, I affirm the original notice of negative determination of eligibility to apply for worker adjustment assistance for workers and former workers of Glenshaw Glass Company, Glenshaw, Pennsylvania.

Signed at Washington, DC, this 9th day of March, 2005.
Elliott S. Kushner,
Certifying Officer, Division of Trade Adjustment Assistance.

[FR Doc. E5-1242 Filed 3-21-05; 8:45 am]

BILLING CODE 4510-30-P